DEPARTMENT OF ENERGY

Federal Energy Regulatory Commission

[Docket No. CP01-30-002]

OkTex Pipeline Company; Notice of Compliance Filing

October 8, 2002.

Take notice that on October 2, 2002 OkTex Pipeline Company (OkTex), filed a tariff sheet to cancel Dynegy Midstream Pipeline, Inc. (Midstream) First Revised Volume No. 1 as instructed by the Order approving abandonment and issuing certificate in Docket Nos. CP01-30-000 dated December 1, 2000.

OkTex states that copies of the filing have been mailed to all affected customers and state regulatory commissions.

Any person desiring to protest said filing should file a protest with the Federal Energy Regulatory Commission, 888 First Street, NE., Washington, DC 20426, in accordance with section 385.211 of the Commission's rules and regulations. All such protests must be filed in accordance with Section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-26074 Filed 10-11-02; 8:45 am]

BILLING CODE 6717-01-P